DEPARTMENT OF ENERGY

Federal Energy Regulatory Commission

Combined Notice of Filings #1

Take notice that the Commission received the following electric rate filings:

Docket Numbers: ER16-696-002.

Applicants: Midcontinent Independent System Operator, Inc.

Description: Compliance filing: 2016-09-08_2nd Amendment to Attachment X Funding Options Filing to be effective 6/24/2015.

Filed Date: 9/8/16.

Accession Number: 20160908-5195.

Comments Due: 5 p.m. ET 9/29/16.

Docket Numbers: ER16-2293-002.

Applicants: Drift Sand Wind Project, LLC.

Description: Tariff Amendment: MBR Tariff to be effective 9/23/2016.

Filed Date: 9/8/16.

Accession Number: 20160908-5151.

Comments Due: 5 p.m. ET 9/29/16.

Docket Numbers: ER16-2560-000.

Applicants: PJM Interconnection, L.L.C.

Description: § 205(d) Rate Filing: Service Agreement No. 4529 and Notice of Cancellation to be effective 8/8/2016.

Filed Date: 9/7/16.

Accession Number: 20160907-5202.

Comments Due: 5 p.m. ET 9/28/16.

Docket Numbers: ER16-2561-000.

Applicants: Sunflower Wind Project, LLC.

Description: Baseline eTariff Filing: MBR Application to be effective 10/15/2016.

Filed Date: 9/8/16.

Accession Number: 20160908-5177.

Comments Due: 5 p.m. ET 9/29/16.

Docket Numbers: ER16-2562-000.

Applicants: Nicolis, LLC.

Description: § 205(d) Rate Filing: Amended and Restated CLGIA Co-Tenancy Agreement to be effective 9/6/2016.

Filed Date: 9/8/16.

Accession Number: 20160908-5185.

Comments Due: 5 p.m. ET 9/29/16.

Docket Numbers: ER16-2563-000.

Applicants: Nicolis, LLC.

Description: § 205(d) Rate Filing: Shared Use Agreement Filing to be effective 9/6/2016.

Filed Date: 9/8/16.

Accession Number: 20160908-5191.

Comments Due: 5 p.m. ET 9/29/16.

Docket Numbers: ER16-2564-000.

Applicants: Tropico, LLC.

Description: § 205(d) Rate Filing: Shared Use Agreement Filing to be effective 9/6/2016.

Filed Date: 9/8/16.

Accession Number: 20160908-5198.

Comments Due: 5 p.m. ET 9/29/16.

Docket Numbers: ER16-2565-000.

Applicants: Tropico, LLC.

Description: § 205(d) Rate Filing: Amended and Restated CLGIA Co-Tenancy Agreement to be effective 9/6/2016.

Filed Date: 9/8/16.

Accession Number: 20160908-5199.

Comments Due: 5 p.m. ET 9/29/16.

Docket Numbers: ER16-2566-000.

Applicants: Dynegy Midwest Generation, LLC.

Description: § 205(d) Rate Filing: Revised Rate Schedule to be effective 10/17/2016.

Filed Date: 9/8/16.

Accession Number: 20160908-5217.

Comments Due: 5 p.m. ET 9/29/16.

Docket Numbers: ER16-2567-000.

Applicants: Median Energy Corp.

Description: Baseline eTariff Filing: MBR Application to be effective 11/8/2016.

Filed Date: 9/8/16.

Accession Number: 20160908-5243.

Comments Due: 5 p.m. ET 9/29/16.

Docket Numbers: ER16-2568-000.

Applicants: Southern California Edison Company.

Description: § 205(d) Rate Filing: Letter Agreement ACES Project—WDT 1250EXP to be effective 9/9/2016.

Filed Date: 9/8/16.

Accession Number: 20160908-5254.

Comments Due: 5 p.m. ET 9/29/16.

Take notice that the Commission received the following qualifying facility filings:

Docket Numbers: QF15-792-000.

Applicants: SunE M5B Holdings, LLC.

Description: Refund Report of SunE M5B Holdings, LLC.

Filed Date: 9/7/16.

Accession Number: 20160907-5232.

Comments Due: 5 p.m. ET 9/28/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 8, 2016.
Nathaniel J. Davis, Sr.,
Deputy Secretary.

[FR Doc. 2016-22042 Filed 9-13-16; 8:45 am]

BILLING CODE 6717-01-P